NUCLEAR REGULATORY COMMISSION

[Docket Nos. 50-266 and 50-301]

Nuclear Manaagement Company, LLC; Notice of Consideration of Issuance of Amendment to Facility Operating License and Opportunity for a Hearing

The U.S. Nuclear Regulatory Commission (the Commission) is considering issuance of an amendment to Facility Operating License Nos. DPR-24 and DPR-27, issued to Nuclear Management Company, LLC (NMC or the licensee), for operation of the Point Beach Nuclear Plant, Units 1 and 2, located in Manitowoc County, Wisconsin.

The proposed amendment would be a full conversion from the current Technical Specifications (CTS) to a set of improved Technical Specifications (ITS) based on NUREG-1431, “Standard Technical Specifications (STS) for Westinghouse Plants,” Revision 1, dated April 1995. The STS have been developed by the Commission's staff through working groups composed of both NRC staff members and industry representatives, and has been endorsed by the staff as part of an industry-wide initiative to standardize and improve the Technical Specifications (TSs) for nuclear power plants. As part of the proposed amendment, the licensee has applied the criteria contained in the Commission's “Final Policy Statement on Technical Specification Improvements for Nuclear Power Reactors (Final Policy Statement),” published in the Federal Register on July 22, 1993 (58 FR 39132), to the CTS, and, using NUREG-1431 as a basis, proposed ITS for Point Beach, Units 1 and 2. The criteria in the Final Policy Statement were subsequently added to 10 CFR 50.36, “Technical Specifications,” in a rule change that was published in the Federal Register on July 19, 1995 (60 FR 36953). The rule change became effective on August 18, 1995.

The licensee has categorized the proposed changes to the CTS into four general groupings. These groupings are characterized as administrative changes, relocation changes, more restrictive changes, and less restrictive changes.

Administrative changes are those that involve restructuring, renumbering, rewording, interpretation, and complex rearranging of requirements, and other changes not affecting technical content or substantially revising an operating requirement. The reformatting, renumbering, and rewording processes reflect the attributes of NUREG-1431 and does not involve technical changes to the existing TSs. The proposed changes include: (a) Identifying plant-specific wording for system names, etc., (b) changing the wording of specification titles in the CTS to conform to STS, (c) splitting up requirements that are currently grouped, or combining requirements that are currently in separate specifications, (d) deleting specifications whose applicability has expired, and (e) wording changes that are consistent with the CTS but that more clearly or explicitly state existing requirements. Such changes are administrative in nature and do not impact initiators of analyzed events or assumed mitigation of accident or transient events.

Relocation changes are those involving relocation of requirements and surveillances for structures, systems, components, or variables that do not meet the criteria for inclusion in TSs. Relocated changes are those CTS requirements that do not satisfy or fall within any of the four criteria specified in the Commission's policy statement and may be relocated to appropriate licensee-controlled documents.

The licensee's application of the screening criteria to Point Beach, Units 1 and 2, is described in Attachment 6 to the November 15, 1999, application. The affected structures, systems, components, or variables are not assumed to be initiators of analyzed events and are not assumed to mitigate accident or transient events. The requirements and surveillances for these affected structures, systems, components, or variables will be relocated from the TSs to administratively controlled documents such as the quality assurance program, the Updated Final Safety Analysis Report (UFSAR), the ITS Bases, the Technical Requirements Manual (TRM) that is incorporated by reference in the UFSAR, the Core Operating Limits Report (COLR), the Offsite Dose Calculation Manual, the Inservice Testing Program, the Inservice Inspection Program, or other licensee-controlled documents. Changes made to these documents will be made pursuant to 10 CFR 50.59 or other appropriate control mechanisms, and may be made without prior NRC review and approval. In addition, the affected structures, systems, components, or variables are addressed in existing surveillance procedures that are also subject to 10 CFR 50.59. These proposed changes will not impose or eliminate any requirements.

More restrictive changes are those involving more stringent requirements compared to the CTS for operation of the facility. These more stringent requirements do not result in operation that will alter assumptions relative to the mitigation of an accident or transient event. The more restrictive requirements will not alter the operation of process variables, structures, systems, and components described in the safety analyses.

Less restrictive changes are those where CTS requirements are relaxed, relocated or eliminated, or new plant operational flexibility is provided. When requirements have been shown to provide little or no safety benefit, their removal from the TSs may be appropriate. In most cases, relaxations previously granted to individual plants on a plant-specific basis were the result of (a) generic NRC actions, (b) new NRC staff positions that have evolved from the technological advancements and operating experience, or (c) resolution of the Owners Groups' comments on the ITS. Generic relaxations contained in NUREG-1431 were reviewed by the staff and found to be acceptable because they are consistent with current licensing practices and NRC regulations. The licensee's design will be reviewed to determine if the specific design basis and licensing basis are consistent with the technical basis for the model requirements in NUREG-1431, thus providing a basis for these revised TSs, or if relaxation of the requirements in the CTS is warranted based on the justification provided by the licensee.

These administrative, relocation, more restrictive, and less restrictive changes to the requirements of the CTS do not result in operations that will alter assumptions relative to mitigation of an analyzed accident or transient event.

In addition to the proposed changes solely involving the conversion, there are also (1) changes proposed that are differences to the requirements in both the CTS and the STS and (2) changes that are in addition to those changes that are needed to meet the overall purpose of the conversion. These changes are referred to as beyond-scope changes and are as follows:

1. Adopts more restrictive action requirements for the emergency safety feature actuation system (ESFAS). The more restrictive action requirements pertain to instrumentation channels for the following functions: Steam line isolation on manual, high steam flow, and high high steam flow (ITS 3.3.2).

2. Adds an exception to Mode 3 applicability of the ESFAS instrument function. The ITS is modified to allow reactor coolant system hydrostatic testing in Mode 3 without the steam line pressure—low safety injection function instrumentation being operable (ITS 3.3.2).

3. Adds a requirement for the condensate isolation functions to be operable in Modes 1, 2, and 3, except when all main feedwater regulating valves and associated bypass valves are closed and deactivated (ITS 3.3.2).

4. Adopts STS requirements to perform a trip actuating device operational test on containment isolation valve position indication post-accident monitoring instrumentation function (ITS 3.3.3).

5. Increases action requirements for loss of power diesel generator start and load sequence instrumentation functions. This item also imposes additional restrictions by adopting the STS-required actions for two inoperable channels of 480 volt buses (ITS 3.3.5).

6. Relocates reactor coolant system pressure temperature limits to the pressure temperature limits report and adopts STS required actions to ensure operation within the pressure and temperature limits (ITS 3.4.3 and ITS 5.6.5).

7. Increases operability and surveillance requirements for reactor coolant system (RCS) loops. For Mode 3, the CTS currently requires one reactor coolant pump to be in operation and one steam generator to be operable. ITS adds the requirement that two RCS loops be operable, which also means that two steam generators are required in Mode 3. ITS also adopts a surveillance to verify one RCS loop is in operation consistent with the current LCO (ITS 3.4.1).

8. Adds explicit operability, action, and surveillance requirements for the containment sump monitor (ITS 3.4.15).

9. Revises applicability and frequency for surveillances of the auto actuation of emergency core cooling system (ECCS) valves and auto start of ECCS pumps in Mode 4. ITS specifies an 18-month frequency as opposed to the once each refueling frequency in CTS. ITS also requires the surveillance requirements to be met during all Mode 4 conditions (ITS 3.5.3).

10. Imposes more restrictive changes to main steam isolation valve and non-return check valve action requirements. The Point Beach plant has a different arrangement for main steam isolation valves and therefore, could not adopt the STS requirements for these TSs (ITS 3.7.2).

11. Adds operability, action, and surveillance TS requirements for main feedwater isolation valves (ITS 3.7.3).

12. Imposes more restrictive changes to the atmospheric dump valve flow path action and surveillance requirements (ITS 3.7.4).

13. Revises the frequency of surveillance requirements for the auxiliary feedwater (AFW) system. This changes also revises some of the nomenclature to the AFW system (ITS 3.7.5).

14. Incorporates changes to the component cooling water system operability and action requirements. Also, adds a note to clarify action requirements for when a residual heat removal loop is made inoperable by component cooling system components (ITS 3.7.7).

15. Adds surveillance requirements to verify the manual start and alignment capabilities of the control room emergency ventilation system (ITS 3.7.9).

16. Adds a limiting condition for operability and an action pertaining to a containment air temperature limit. In addition, a Bases section is added to provide background for the new TS limit (ITS 3.6.5).

17. Adds a surveillance requirement to verify that one residual heat removal loop is in operation during Mode 6 conditions (ITS 3.9.5).

18. Relocates cycle-specific parameters to a core operating limits report (COLR) and establishes administrative control requirements for the COLR in ITS 5.6.4 (ITS 5.6.4).

Before issuance of the proposed license amendment, the Commission will have made findings required by the Atomic Energy Act of 1954, as amended (the Act) and the Commission's regulations.

By July 23, 2001, the licensee may file a request for a hearing with respect to issuance of the amendment to the subject facility operating license, and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714 which is available at the Commission's Public Document Room, located at One White Flint North, 11555 Rockville Pike (first floor), Rockville, Maryland, and is accessible electronically through the ADAMS Public Electronic Reading Room link at the NRC Web site ­(http://www.nrc.gov). If a request for a hearing or petition for leave to intervene is filed by the above date, the Commission or an Atomic Safety and Licensing Board, designated by the Commission or by the Chairman of the Atomic Safety and Licensing Board Panel will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition must specifically explain the reasons why intervention should be permitted with particular reference to the following factors: (1) The nature of the petitioner's right under the Act to be made a party to the proceeding; (2) the nature and extent of the petitioner's property, financial, or other interest in the proceeding; and (3) the possible effect of any order that may be entered in the proceeding on the petitioner's interest. The petition must also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene that must include a list of the contentions that the petitioner seeks to have litigated in the hearing. Each contention must consist of a specific statement of the issue of law or fact to be raised or controverted. In addition, the petitioner shall provide a brief explanation of the bases of each contention and a concise statement of the alleged facts or expert opinion that support the contention and on which the petitioner intends to rely in proving the contention at the hearing. The petitioner must also provide references to those specific sources and documents of which the petitioner is aware and on which the petitioner intends to rely to establish those facts or expert opinion. The petitioner must provide sufficient information to show that a genuine dispute exists with the applicant on a material issue of law or fact. Contentions shall be limited to matters within the scope of the amendment under consideration. The contention must be one that, if proven, would entitle the petitioner to relief. A petitioner who fails to file such a supplement that satisfies these requirements with respect to at least one contention will not be permitted to participate as a party.

Those permitted to intervene become parties to the proceeding, subject to any limitations in the order granting leave to intervene, and have the opportunity to participate fully in the conduct of the hearing, including the opportunity to present evidence and cross-examine witnesses.

A request for a hearing and petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the request for a hearing and the petition should also be sent to the Office of the General Counsel, U.S. Nuclear Regulatory Commission, Washington, DC 20555-0001, and to John H. O'Neill, Jr., Shaw, Pittman, Potts, and Trowbridge, 2300 N Street, NW, Washington, DC 20037, attorney for the licensee.

Nontimely filings of petitions for leave to intervene, amended petitions, supplemental petitions and/or requests for a hearing will not be entertained absent a determination by the Commission, the presiding officer, or the Atomic Safety and Licensing Board that the petition and/or request should be granted based upon a balancing of the factors specified in 10 CFR 2.714(a)(1)(i)-(v) and 2.714(d).

If a request for a hearing is received, the Commission's staff may issue the amendment after it completes its technical review and prior to the completion of any required hearing if it publishes a further notice for public comment of its proposed finding of no significant hazards consideration in accordance with 10 CFR 50.91 and 50.92.

For further details with respect to this action, see the application for amendment dated November 15, 1999, as supplemented by letters dated March 15, June 15, June 19, July 28, August 17, September 14, October 19, and December 21, 2000, February 6, February 23, March 19, May 11, and June 13, 2001, which is available for public inspection at the Commission's Public Document Room, located at One White Flint North, 11555 Rockville Pike (first floor), Rockville, Maryland. Publicly available records will be accessible electronically from the Agencywide Documents Access and Management Systems (ADAMS) Public Electronic Reading Room on the Internet at the NRC Web site, http://www.nrc.gov/NRC/ADAMS/index.html. If you do not have access to ADAMS or if there are problems in accessing the documents located in ADAMS, contact the NRC Public Document Room Reference staff at 1-800-397-4209, 301-415-4737 or by e-mail to pdr@nrc.gov.

Dated at Rockville, Maryland, this 15th day of June 2001.
For the Nuclear Regulatory Commission.
Beth A. Wetzel,
Senior Project Manager, Section I, Project Directorate III, Division of Licensing Project Management, Office of Nuclear Reactor Regulation.

[FR Doc. 01-15710 Filed 6-21-01; 8:45 am]

BILLING CODE 7590-01-P